DEPARTMENT OF TRANSPORTATION

Surface Transportation Board

[STB Finance Docket No. 33880]

Columbiana County Port Authority—Acquisition Exemption—Certain Rail Assets of Pittsburgh & Lake Erie Properties, Inc., in Mahoning County, OH

Columbiana County Port Authority (CCPA) has filed a verified notice of exemption under 49 CFR 1150.31 to acquire certain rail assets from the bankruptcy estate of Pittsburgh & Lake Erie Properties, Inc. (P&LEP), including certain easement rights between survey stations 46+00 and 146+00 between Struthers and Youngstown, OH.

This line of railroad was previously owned by predecessors-in-interest of P&LEP and were sold to various entities, subject to easements, which, according to CCPA, allowed P&LEP to assign the operation of the line to other parties, subject to regulatory approval.¹ This transaction is related to STB Docket No. AB-556 (Sub-No. 2X), Railroad Ventures, Inc.—Abandonment Exemption—Between Youngstown, OH, and Darlington, PA, in Mahoning and Columbiana Counties, OH, and Beaver County, PA, in which CCPA has made an offer of financial assistance to purchase the 35.7-mile line of railroad owned by Railroad Ventures, Inc., between Darlington and Youngstown. By entering into an interchange agreement with The Ohio & Pennsylvania Railroad Company, CCPR will be able to operate from Darlington to the point of interchange with CSX Transportation, Inc., at milepost −3.0 at or near Struthers, and with Norfolk Southern Railway Company at milepost −1.5 at Haselton Yard.

¹ In issuing this notice, the Board is making no ruling on the property or contractual rights of the parties. Therefore, by invoking the class exemption, CCPA has Board permission to acquire these assets to the extent that it has been able, or will be able, legally to obtain the property rights. See Central Columbiana & Pennsylvania Railway, Inc.—Lease and Operation Exemption—Columbiana County Port Authority, STB Finance Docket No. 33818 (STB served Dec. 23, 1999) in which Central Columbiana & Pennsylvania Railway, Inc. (CCPR), was authorized to operate over this 3-mile segment and over a 35.7-mile line segment between Darlington, PA, and Youngstown, OH, to be purchased by CCPA.

While CCPA states that consummation of the transaction occurred on April 19, 2000, the exemption that provided the regulatory approval for the transaction did not become effective until June 8, 2000, seven days after the filing of the verified notice of exemption.

If the notice contains false or misleading information, the exemption is void ab initio. Petitions to revoke the exemption under 49 U.S.C. 10502(d) may be filed at any time. The filing of a petition to revoke does not automatically stay the transaction.

An original and 10 copies of all pleadings, referring to STB Finance Docket No. 33880, must be filed with the Surface Transportation Board, Office of the Secretary, Case Control Unit, 1925 K Street, N.W., Washington, DC 20423-0001. In addition, one copy of each pleading must be served on Richard H. Streeter, Barnes & Thornburgh, Suite 500, 1401 Eye Street, N.W., Washington, DC 20005.

Board decisions and notices are available on our website at “WWW.STB.DOT.GOV.”

Decided: June 19, 2000.
By the Board, David M. Konschnik, Director, Office of Proceedings.
Vernon A. Williams,
Secretary.

[FR Doc. 00-15970 Filed 6-23-00; 8:45 am]

BILLING CODE 4915-00-P